DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project “Use of Open-Ended Responses to Explore Disparities in Patient Experience.” This proposed information collection was previously published in the Federal Register on June 27th, 2023, and allowed 60 days for public comment. AHRQ received no substantive comments from members of the public. The purpose of this notice is to allow an additional 30 days for public comment.

DATES: Comments on this notice must be received by October 5, 2023.

ADDRESSES: Written comments and recommendations for the proposed information collection should be sent within 30 days of publication of this notice to www.reginfo.gov/public/do/PRAMain. Find this particular information collection by selecting “Currently under 30-day Review—Open for Public Comments” or by using the search function. Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

Use of Open-Ended Responses To Explore Disparities in Patient Experience

The Consumer Assessment of Healthcare Providers and Systems (CAHPS) program, which is sponsored by AHRQ, has the purpose of advancing the scientific understanding of the patient experience of care, including the development and testing of new surveys and/or approaches to data collection to promote or improve the collection of consumer reports and evaluations of their experiences with health care.

This Project has the following goals:

(1) Use open-ended (narrative) responses to provide context, detail, and understanding regarding observed differences in patient experience based on race, ethnicity, gender, and preferred language.

(2) Use Clinician and Group-CAHPS Narrative Item Set (NIS)-generated narrative data to examine potential algorithmic bias in natural language programs (NLP) that could potentially be used to code large quantities of narrative data.

(3) Where algorithmic bias is uncovered, use this analysis to identify adjustments that can be applied to both the input for these programs or the outputs.

This project is being conducted by AHRQ through its contractor, the RAND Corporation, pursuant to AHRQ's statutory authority to conduct and support research on health care and on systems for the delivery of such care, including activities with respect to the quality, effectiveness, efficiency, appropriateness, and value of healthcare services and with respect to quality measurement and improvement. 42 U.S.C. 299a(a)(1) and (2).

Method of Collection

To achieve the goals of this project the following data collections will be implemented:

Online survey: Data will be collected from a sample of 4,998 survey respondents drawn from the Ipsos KnowledgePanel, a large nationwide online panel of American adults (over 50,000 panelists) with demographic characteristics consistent with the adult U.S. population. Equal-sized subsamples will be drawn for each of the following groups: non-Hispanic Asian American, Native Hawaiian or Other Pacific Islander; non-Hispanic Black; Spanish-speaking Hispanic; English-speaking Hispanic; non-Hispanic Multiracial; and non-Hispanic White. Within these six subsamples, we will strive to recruit a roughly equal split of men and women. The survey will be fielded in English and Spanish based on respondent-preferred language.

Estimated Annual Respondent Burden

Exhibit 1 shows the estimated annualized burden hours for survey respondents' time to participate in this data collection. All participants will complete the Online Survey, which is estimated to take 17 minutes per response. The total annual burden hours are estimated to be 1,416 hours.

Exhibit 2 shows the estimated annualized cost burden associated with the respondents' time to participate in this data collection. The cost burden is estimated to be $39,662.

Exhibit 1—Estimated Annualized Burden Hours
Form name | Number of respondents | Number of responses per respondent | Hours per response | Total burden hours
Online Survey | 4,998 | 1 | .28 | 1,416
Total | 4,998 | na | na | 1,416

Exhibit 1—Estimated Annualized Burden Hours
Form name | Number of respondents | Total burden hours | Average hourly wage rate * | Total cost burden
Online Survey | 4,998 | 1,416 | ᵃ $28.01 | $39,662
Total | 4,998 | 1,416 | Na | 39,662
* The May 2017 National Employment and Wage Estimates reported by the Bureau of Labor statistics indicate an average hourly wage of $28.01 across the 50 U.S. states and the District of Columbia. The national average has been used to estimate the wages of survey respondents. The Knowledge Panel consists of a broad cross-section of the U.S. adult population, and thus a national average should be a reasonable estimate of the wages of survey respondents. National Compensation Survey: Occupational wages in the United States May 2021, “U.S. Department of Labor, Bureau of Labor Statistics.”
ᵃ Based on the mean wages for all occupations, code 00-0000.

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: August 30, 2023.
Marquita Cullom,
Associate Director.

[FR Doc. 2023-19079 Filed 9-1-23; 8:45 am]

BILLING CODE 4160-90-P